DEPARTMENT OF COMMERCE

National Oceanic and Atmospheric Administration

[I.D. 051601D]

New England Fishery Management Council; Public Meetings

AGENCY: National Marine Fisheries Service(NMFS), National Oceanic and Atmospheric Administration (NOAA), Commerce.

ACTION: Notice of public meeting.

SUMMARY: The New England Fishery Management Council (Council) is scheduling a public meeting of its Groundfish Oversight Committee in June, 2001. Recommendations from the committee will be brought to the full Council for formal consideration and action, if appropriate.

DATES: The meeting will held on Monday, June 4, 2001, at 9:30 a.m.

ADDRESSES:

The meeting will be held at the DoubleTree Hotel, 1230 Congress Street, Portland, ME 04102; telephone: (207) 774-5611.

FOR FURTHER INFORMATION CONTACT: Paul J. Howard, Executive Director, New England Fishery Management Council (978) 465-0492.

SUPPLEMENTARY INFORMATION: The Groundfish Oversight Committee will continue development of management alternatives for Amendment 13 to the Northeast Multispecies Fishery Management Plan. The Committee will review alternatives developed by the Groundfish Plan Development Team and incorporate measures identified over the past year into the management alternatives. While the Committee has been developing measures that fall into three broad approaches - refinements to the status quo, area management, and sector allocation - most of the effort at this meeting will be on refining the status quo option. The Committee will consider alternatives that include possible reductions in days-at-sea allocations and use. Other measures that may be discussed include the use of trip or possession limits, modifications to seasonal and year-round closed areas, changes to gear requirements, and recreational fishing measures. These efforts will lead to development of recommended management alternatives that will be taken to public hearing in the future. Proposed maximum sustainable yield control rules will be reviewed to clarify changes suggested by the Council and the Committee.

Although non-emergency issues not contained in this agenda may come before this group for discussion, those issues may not be the subject of formal action during this meeting. Action will be restricted to those issues specifically listed in this notice and any issues arising after publication of this notice that require emergency action under section 305 (c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 17, 2001.
Richard W. Surdi,
Acting Director, Office of Sustainable Fisheries, National Marine Fisheries Service.

[FR Doc. 01-12873 Filed 5-21-01; 8:45 am]

BILLING CODE 3510-22-S